DEPARTMENT OF LABOR

Employment and Training Administration

Notice of Determinations Regarding Eligibility To Apply for Worker Adjustment Assistance

In accordance with Section 223 of the Trade Act of 1974, as amended (19 USC 2273) the Department of Labor herein presents summaries of determinations regarding eligibility to apply for trade adjustment assistance for workers by (TA-W) number issued during the period of October 19 through October 30, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,612; Holcim (US), Inc., Dundee Plant Div., Independent Contractors, Dundee, MI: May 22, 2008.

TA-W-70,841; Alliance Carolina Tool and Mold Corporation, Plastics Division, Arden, NC: May 29, 2008.

TA-W-70,892; Eastern Screw Company, Inc., Allesco Industries, Inc., Johnston, RI: June 1, 2008.

TA-W-71,021; Martinrea Industries, Inc., Reed City Tool and Die, Reed City, MI: March 7, 2009.

TA-W-71,072; Stanley Tools, Division of The Stanley Works, Inc., Pittsfield, VT: June 8, 2008.

TA-W-71,205; ArcelorMittal Georgetown, Georgetown, SC: June 15, 2008.

TA-W-71,641; Rocky Mountain Poison and Drug Center, Denver Health and Hospital Authority, Denver, CO: July 10, 2008.

TA-W-71,742; Kilian Manufacturing, Adecco Employment Services, etc, Syracuse, NY: July 17, 2008.

TA-W-71,743; HWD Acquisition, Inc., Formerly Monarchy Holding, Inc., Medford, WI: July 16, 2008.

TA-W-71,920; Weyerhaeuser NR, Engineered Wood Products, Albany, OR: August 3, 2008.

TA-W-72,309; Neapco, LLC, Components Division, Pottstown, PA: September 14, 2008.

TA-W-65,242; Sierra Pacific Industries, Aberdeen, WA: February 2, 2008.

TA-W-70,613; Technicolor Business Group, Thomas, Inc., Technicolor Home, Select, Staff Line, Livonia, MI: May 15, 2008.

TA-W-70,154; Titanx Engine Cooling, Adecco Engineering and Technical and Kelly Services, Jamestown, NY: May 5, 2009.

TA-W-70,216; Nexergy, Inc., Canon City, CO: May 18, 2008.

TA-W-70,238; Straits Steel and Wire Company, SSW Holding Company, Inc., Ludington, MI: May 18, 2008.

TA-W-70,277; Mississippi Polymers, Inc., Corinth, MS: May 19, 2008.

TA-W-70,383; Veyance Technologies Inc., Kelly Scientific & Independent Contractors, Sun Prairie, WI: May 20, 2008.

TA-W-70,494; Alliance Castings Company, LLC, Ohio Castings/Leased Worker of Select Pro, Inc., Alliance, OH: May 21, 2008.

TA-W-70,514; Wisconsin Metal Products, Racine, WI: May 19, 2008.

TA-W-70,520A; The Boeing Company, Commercial Aircraft Group, Portland, OR: May 22, 2008.

TA-W-70,520; The Boeing Company, Commercial Aircraft Group, Puget Sound, WA: May 22, 2008.

TA-W-70,536; Barcalounger Corporation, Hancock Park Associates, Rocky Mount, NC: May 21, 2008.

TA-W-70,643; Murphy Veneer Company, White City, OR: May 18, 2008.

TA-W-70,700; D/E Associates, Inc., Travelarts Division, Shamokin, PA: May 27, 2008.

TA-W-70,797; Ramrod Industries LLC, Spencer, WI: May 19, 2008.

TA-W-70,849; Venta Airwasher LLC, Itasca, IL: May 28, 2008.

TA-W-70,881; Superior Fibers Shawnee, LLC, Superior Fiber, LLC, Shawnee, OH: June 2, 2008.

TA-W-71,236; Diversified Machine, LLC, Milwaukee, WI: June 12, 2008.

TA-W-71,684; Quality Mould, Inc., Latrobe, PA: July 9, 2008.

TA-W-72,101; PGI Manufacturing, LLC, Rockford, IL: August 19, 2008.

TA-W-72,207; General Electric Ohio Lamp Plant, Consumer and Industrial Lighting Division, Leased Workers of OSS, Inc., Warren, OH: August 15, 2008.

TA-W-72,297; National Office Furniture—Santa Claus, Santa Claus, IN: September 14, 2008.

TA-W-72,336; Iseli Company, Div. of Danaher Tool Group/Leased Workers from The Hire Source, Plymouth, CT: September 9, 2008.

TA-W-72,345; Carolina Glue Chip, Inc., Wilkesboro, NC: September 15, 2008.

TA-W-72,374; Higgins Embroidery, Inc., Lineville, AL: September 21, 2008.

TA-W-70,464; Quantumplus Limited Partnership, dba Tabs Direct, Inc./Rapp, Matrix, Excuteam, etc, Stafford, TX: May 19, 2008.

TA-W-70,958; Liang's Sewing, San Francisco, CA: May 19, 2008.

The following certifications have been issued. The requirements of Section 222(a)(2)(B) (shift in production or services) of the Trade Act have been met.

TA-W-71,476; Lyondellbasell Advanced Polydefins, Inc., Leased Workers from Aerotek Commercial, Mansfield, TX: June 18, 2008.

TA-W-70,160; Knoll, Incorporated, Wood Finishing Dept., Adecco and Tac Worldwide, East Greenville, PA: May 18, 2008.

TA-W-70,235; SCI, LLC/Zener-Rectifier, ON Semiconductor, Phoenix, AZ: May 18, 2008.

TA-W-70,259; Chemetall Foote Corporation, Rockwood Holdings, Inc./Leased Workers from Sarnoc, Inc., Silver Peak, NV: May 15, 2008.

TA-W-70,311; Newport Precision, Inc., Hitachi Metals America, Newport, TN: May 19, 2008.

TA-W-70,472A; Modus Link Corporation, Americas Div., Select Staffing, Lindon, UT: May 20, 2008.

TA-W-70,472B; Modus Link Corporation, Americas Div., Select Staffing, Morrisville, NC: May 20, 2008.

TA-W-70,472C; Modus Link Corporation, Americas Div., Select Staffing, Smyrna (Nashville), TN: May 20, 2008.

TA-W-70,472; Modus Link Corporation, Americas Div., Select Staffing, Indianapolis, IN: May 20, 2008.

TA-W-70,586; Sun Microsystems, Inc., World Wide Operations, Recording Head Operations, Leased Workers Prounlimited, Louisville, CO: May 22, 2008.

TA-W-70,617; Bayer MaterialScience, LLC, Bayer Corporation, Including Belcan, New Martinsville, WV: May 22, 2008.

TA-W-70,652A; Fleetwood Travel Trailers of Oregon, La Grande, OR: May 20, 2008.

TA-W-70,652; Fleetwood Travel Trailers of Oregon, Pendleton, OR: May 20, 2008.

TA-W-70,656; RBC Manufacturing Corporation, Regal Beloit Corporation/Leased Workers from Seek Careers, Grafton, WI: May 26, 2008.

TA-W-70,807; Honeywell International, Automation & Control Solutions, Sensing & Control Division, Freeport, IL: May 18, 2008.

TA-W-70,808; Honeywell International, Production of Avionics, Olathe, KS: May 18, 2008.

TA-W-70,809; Honeywell International, Automation & Control, Sensing and Control, Woonsocket, RI: May 18,2008.

TA-W-70,810; Honeywell International, Automation & Control, Sensing & Control, Transparent Heather, Pawtucket, RI: May 21, 2008.

TA-W-70,968; Trinity North American Freight Car, Inc., Freightcar Division/Trinity Industries, Inc., Global, Cartersville, GA: May 19, 2008.

TA-W-71,020; Vishay Sprague, Inc., d/b/a Vishay Cera-Mite/Adecco Employment, Grafton, WI: June 5, 2008.

TA-W-71,036; AMETEK, Inc., Floorcare and Specialty Motors Division, Kent, OH: June 2, 2008.

TA-W-71,161; Standard Motor Products, Inc., Leased Workers from Action Staffing, Wilson, NC: June 10, 2008.

TA-W-71,168A; Agilent Technologies, EESOF Div., Volt, Santa Rosa, CA: June 2, 2008.

TA-W-71,168B; Agilent Technologies, EESOF Div., Volt, Santa Clara, CA: June 2, 2008.

TA-W-71,168C; Agilent Technologies, EESOF Div., Volt, Alpharetta, GA: June 2, 2008.

TA-W-71,168D; Agilent Technologies, EESOF, Volt, Everett, WA: June 2, 2008.

TA-W-71,168; Agilent Technologies, EESOF Div., Volt, Westlake Village, CA: June 2, 2008.

TA-W-71,368; IAC Canton, LLC, Canton, OH: June 22, 2008.

TA-W-71,681; IAC Springfield, LLC, Springfield, TN: July 13, 2008.

TA-W-71,693; Ceco Building Systems, Robertson-CECO II Corp. Div., CPI Group, Columbus, MS: July 16, 2008.

TA-W-71,697; Federal-Mogul, Summerton, NC: July 15, 2008.

TA-W-71,805; Autosplice, Inc., Select Temporary Services, Payrolling, San Diego, CA: July 23, 2008.

TA-W-71,958; Indiana Mills and Manufacturing, Inc., Leased Workers from Nova/Link D.S.A. Rivercross, Westfield, IN: August 7, 2008.

TA-W-71,969; Shaw Process Fabricators Inc., West Monroe, LA: August 7, 2008.

TA-W-72,038; ASM America, Inc., ASM International N.V./Leased Workers from ADECCO Engineering, Phoenix, AZ: August 13, 2008.

TA-W-72,157; Risdon International Inc., Laconia, NH: August 27, 2008.

TA-W-72,201; Metaldyne, Chassis Division/Leased Workers From A& R Staffing, Whitsett, NC: September 1, 2008.

TA-W-72,213; Yale Lift-Technologies, Columbus Mckinnon Corporation, Muskegon, MI: September 3, 2008.

TA-W-72,314; Air System Components, DmDickason Personnel, El Paso, TX: June 1, 2009.

TA-W-72,392; Standard Motor Products, Leased Workers Express Employment, Independence, KS: September 22, 2008.

TA-W-72,402; Appleton Electric, EGS Electrical Group Division/Leased Worker of Advance Services, Columbus, NE: September 21, 2008.

TA-W-72,511; Durbin Industrial Valve, Inc., Leased Workers from CPR Staffing, Inc., Akron, OH: September 21, 2008.

TA-W-72,342; Federal Signal Corporation, Safety & Signal, Support Shop Wire, Printed Circuits, University Park, IL: September 17, 2008.

TA-W-72,385; Greyhound Lines, Inc., A Business Unit of First Group America, Dallas, TX: September 22, 2008.

TA-W-70,215; Anthem, Division of Schawk, Inc., Creative Group, etc, Mount Olive, NJ: May 18, 2008.

TA-W-70,312; Alcatel Lucent, Research and Development, Optics Division, Westford, MA: May 19, 2008.

TA-W-70,908; Rohm and Haas Company, Ltd, Transportation Unit, Technical Services, West Alexandria, OH: May 19, 2008.

TA-W-71,090A; Avaya, Inc., Worldwide Services Group, Global Support Services (GSS) Organization, Highlands Ranch, CO: June 2, 2008.

TA-W-71,090; Avaya, Inc., Worldwide Services Group, Global Support Services (GSS) Organization, Westminster, CO: June 2, 2008.

TA-W-71,162; Husky Injection Molding Systems, Inc., Leased Workers From Selective Staffing, AP Professionals, Cheektowaga, NY: June 10, 2008.

TA-W-71,391; Aero Metric, Inc., Sheboygan, WI: June 23, 2008.

TA-W-71,721; Hewlett Packard (HP), Personal Systems Group- DTO Workstations, VMC, Sogeti, Fort Collins, CO: July 16, 2008.

TA-W-71,787; Thales Avionics, Inc., Aerospace Services Worldwide Div./Office Team, Seattle, WA: July 17, 2008.

TA-W-71,893; Open Solutions, Inc., Appleone and Banc Force, Murrieta, CA: July 3, 2008.

TA-W-72,073; Spherion Corporation, Working at IBM Outsourcing, Mechanicsburg, PA: August 17, 2008.

TA-W-71,231; International Color Services, Scottsdale, AZ: June 9, 2008.

TA-W-71,645; Avery Dennison Retail Information Services, LLC, Centralized Accounting Services Group/Leased Workers of Express Services, Miamisburg, OH: July 10, 2008.

TA-W-71,889; Marsh USA, Inc., NA Controllership Division, Chicago, IL:

The following certifications have been issued. The requirements of Section 222(b) (adversely affected workers in public agencies) of the Trade Act have been met.

None.

The following certifications have been issued. The requirements of Section 222(c) (supplier to a firm whose workers are certified eligible to apply for TAA) of the Trade Act have been met.

TA-W-70,030; Pittsburg Glass Works, LLC, Plant No. 23, Belcan TechServices, Securitas, Evart, MI: May 18, 2009.

TA-W-70,229; Stein Steel Mill Services, Stein, Inc., Broadview Heights, OH: May 19, 2008.

TA-W-70,338; Rapid-Line, Inc., Leased Workers from Ameritemp Staffing, Wyoming, MI: May 18, 2008.

TA-W-70,436; Dura Automotive Systems, Inc., Control Systems Division/Leased Workers from Randstad Inhouse Services, Gordonsville, TN: May 20, 2008.

TA-W-70,672; Thyssen Krupp Waupaca, Inc., Waupaca, WI: May 27, 2008.

TA-W-71,232; Norandal USA, Inc., Huntingdon Div., Manpower, Huntingdon, TN: June 15, 2008.

TA-W-71,396; Mat Nuwood, Lenoir, NC: June 24, 2008.

TA-W-71,703; Alpha Carb Enterprises, Leechburg, PA: July 15, 2008.

TA-W-71,732; Mills Products, Inc., Athens, TN: July 17, 2008.

TA-W-71,847; Technical Machining Services, Inc., Lincoln, RI: July 27, 2008.

TA-W-72,098; JTEKT Automotive Virginia, Inc., Div. of JTEKT North America, Leased Workers of Adecco North America, LLC, Daleville, VA: August 20, 2008.

TA-W-70,546; Axcelis Technologies, Global Customer Operations Division, Portland, OR: May 19, 2008.

TA-W-70,657; Lam Research, Boise, ID: May 27, 2008.

TA-W-72,301; Office Furniture Group Shared Services, Leased Workers from Action Inc. and Personnel Mgmt Inc., Jasper, IN: September 14, 2008.

TA-W-72,566; W.T. Sewing, Inc., San Francisco, CA: October 12, 2008.

The following certifications have been issued. The requirements of Section 222(c) (downstream producer for a firm whose workers are certified eligible to apply for TAA) of the Trade Act have been met.

None.

The following certifications have been issued. The requirements of Section 222(f) (firms identified by the International Trade Commission) of the Trade Act have been met.

TA-W-71,267; Michelin North America, Inc., BFGoodrich Tire Manufacturing Div., Manpower, Rusk, Opelika, AL: June 25, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-72,248; Manufacturers Services Industries, Inc., Flint, MI.

The investigation revealed that the criteria under paragraphs (a)(2)(A)(i) (decline in sales or production, or both) and (a)(2)(B) (shift in production or services to a foreign country) of section 222 have not been met.

TA-W-71,987; Columbia Gas Transmission, LLC, Sugar Grove, OH.

The investigation revealed that the criteria under paragraphs (a)(2)(A) (increased imports) and (a)(2)(B) (shift in production or services to a foreign country) of section 222 have not been met.

TA-W-70,249; US Technology Marine Services, Fort Smith, AR.

TA-W-70,359; Firestone Building Products Company, Prescott, AR.

TA-W-70,416; Lennox Industries, Inc., North American Parts Center, Urbandale, IA.

TA-W-70,466; DMAX, LTD, LLC, General Motors and Isuzu, Dayton, OH.

TA-W-70,499; Ascend Performance Materials, LLC, Formerly Solutia, Inc., Greenwood, SC.

TA-W-70,516; Lamb Assembly and Test, LLC, MAG Industrial Automation Systems, Machesney Park, IL.

TA-W-70,661; IAC Fremont, LLC, Fremont, OH.

TA-W-70,894; Marathon Equipment Company, Clearfield, PA.

TA-W-71,014; Jeld-Wen, Inc., Hawkins Window Division/Leased Workers of Nicolet Staffing, Hawkins, WI.

TA-W-71,944; St. Marys Pressed Metals, Ridgway, PA.

TA-W-71,973; IDA, Inc., Heron, MT.

TA-W-72,104; Smithfield Packing, Inc., Elon Division, Elon College, NC.

TA-W-70,179; IC Bus, LLC, Navistar, Inc., Conway, AR.

TA-W-70,771; Seagate Technology, LLC, McAllen, TX.

TA-W-70,829; Schnadig Corporation, Belmont, MS.

TA-W-72,215; K-Mart, Store #4422, South Point, OH.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of October 19 through October 30, 2009. Copies of these determinations are available for inspection in Room N-5428, U.S. Department of Labor, 200 Constitution Avenue, NW., Washington, DC 20210, during normal business hours or will be mailed to persons who write to the above address.

Dated: December 2, 2009.
Elliott S. Kushner
Certifying Officer, Division of Trade Adjustment Assistance.

[FR Doc. E9-29503 Filed 12-10-09; 8:45 am]

BILLING CODE 4510-FN-P